DEPARTMENT OF ENERGY

Federal Energy Regulatory Commission

[Project No. 1894-233]

Dominion Energy South Carolina, Inc.; Notice of Intent To Prepare an Environmental Assessment

On June 24, 2025, Dominion Energy South Carolina, Inc. filed a temporary variance request for its seasonal turbine venting period for the Parr Hydroelectric Project No. 1894. The project is located on the Broad River in Newberry and Fairfield counties, South Carolina. The project occupies federal lands.

The licensee requests Commission approval to extend the seasonal turbine venting period specified in the project's Turbine Venting Plan (Plan) through October 31, 2025. The Plan requires the licensee to provide turbine venting annually between June 15 and August 31 to increase dissolved oxygen levels downstream of Parr Shoals Dam. Article 401(b) of the project license requires the licensee to obtain Commission approval for extensions exceeding 30 days.

This notice identifies Commission staff's intention to prepare an environmental assessment (EA) under the National Environmental Policy Act (42 U.S.C. 4321 et seq.) for the project.¹ Commission staff plans to issue an EA by September 30, 2025. Revisions to the schedule may be made as appropriate.

¹ The unique identification number for documents relating to this environmental review is EAXX-019-20-000-1755601134.

The Commission's Office of Public Participation (OPP) supports meaningful public engagement and participation in Commission proceedings. OPP can help members of the public, including landowners, community organizations, Tribal members, and others to access publicly available information and navigate Commission processes. For public inquiries and assistance with making filings such as interventions, comments, or requests for rehearing, the public is encouraged to contact OPP at (202) 502-6595 or OPP@ferc.gov.

Any questions regarding this notice may be directed to Joy Kurtz at 202-502-6760 or joy.kurtz@ferc.gov.

Dated: August 25, 2025.
Debbie-Anne A. Reese,
Secretary.

[FR Doc. 2025-16561 Filed 8-27-25; 8:45 am]

BILLING CODE 6717-01-P